DEPARTMENT OF LABOR

Employment and Training Administration

[TA-W-51,770 and TA-W-51,770A]

Phantom USA, Inc., Liberty and Siler City, NC; Notice of Termination of Investigation

Pursuant to section 221 of the Trade Act of 1974, an investigation was initiated on May 15, 2003, in response to a worker petition which was filed by a company official on behalf of workers at Phantom USA, Inc., Liberty, North Carolina (TA-W-51,770) and Phantom USA, Inc., Siler City, North Carolina (TA-W-51,770A).

The petitioner has requested that the petitions be withdrawn. Consequently, further investigation in this case would serve no purpose, and the investigation has been terminated.

Signed in Washington, DC, this 1st day of July 2003.
Linda G. Poole,
Certifying Officer, Division of Trade Adjustment Assistance.

[FR Doc. 03-18556 Filed 7-21-03; 8:45 am]

BILLING CODE 4510-30-P